DEPARTMENT OF COMMERCE

International Trade Administration

[A-583-831]

Stainless Steel Sheet and Strip in Coils from Taiwan: Extension of Time Limits for Preliminary Results of Antidumping Duty Administrative Review

AGENCY: Import Administration, International Trade Administration, Department of Commerce.

ACTION: Extension of time limits for the preliminary results of antidumping duty administrative review.

SUMMARY: The Department of Commerce (“the Department”) is extending the time limits for the preliminary results of the antidumping duty administrative review of stainless steel sheet and strip (“SSSS”) from Taiwan.

EFFECTIVE DATE: March 24, 2003.

FOR FURTHER INFORMATION CONTACT: Peter Mueller, AD/CVD Enforcement Group III, Office 9, Import Administration, International Trade Administration, U.S. Department of Commerce, 14th Street and Constitution Avenue, N.W., Washington, D.C. 20230; telephone: (202) 482-5811.

SUPPLEMENTARY INFORMATION:

Background

On July 1, 2002, the Department published a notice of opportunity to request an administrative review of the antidumping duty order on SSSS from Taiwan. See Antidumping or Countervailing Duty Order, Finding, or Suspended Investigation; Opportunity to Request Administrative Review, 67 FR 44172 (July 1, 2002). On July 30, 2002, Yieh United Steel Corporation (“YUSCO”) and Chia Far Industrial Factory Co. Ltd.(“Chia Far”), Taiwanese producers of subject merchandise, requested that the Department conduct an administrative review of their sales of subject merchandise during the period of review (“POR”). On July 31, 2002, petitioners ¹ requested that the Department conduct an administrative review of Chia Far, YUSCO, Tung Mung Development Co., Ltd. (“Tung Mung”) and Ta Chen Stainless Pipe Co., Ltd. (“Ta Chen”). On August 27, 2002, the Department published a notice of initiation of a review of SSSS from Taiwan covering the period July 1, 2001 through June 30, 2002. See Initiation of Antidumping and Countervailing Duty Administrative Reviews and Requests for Revocation in Part, 67 FR 55000 (August 27, 2002). The preliminary results of review are currently due on April 2, 2003.

¹ Petitioners are Allegheny Ludlum Corporation, AK Steel Corporation, Butler Armco Independent Union, J&L Specialty Steel, Inc., United States Steelworkers of America, AFL-CIO/CLC, and Zanesville Armco Independent Organization.

Extension of Time Limits for Preliminary Results

Section 751(a)(3)(A) of the Tariff Act of 1930, as amended (“the Act”), and section 351.213(h)(2) of the Department's regulations, state that if it is not practicable to complete the review within the time specified, the administering authority may extend the 245-day period to issue its preliminary results by 120 days. Completion of the preliminary results of this review within the 245-day period is impracticable for the following reasons:

• The review involves a large number of transactions and complex adjustments;

• All companies include sales and cost investigations which require the Department to gather and analyze a significant amount of information pertaining to each company's sales practices, manufacturing costs and corporate relationships; and

• The review involves examining complex relationships between the producers and their customers and suppliers.

Therefore, in accordance with section 751(a)(3)(A) of the Act, and section 351.213(h)(2) of the Department's regulations, we are extending the time period for issuing the preliminary results of review by 90 days until July 1, 2003. The final results continue to be due 120 days after the publication of the preliminary results. This notice is issued and published in accordance with Section 751(a)(3)(A) of the Act, and section 351.213(h)(2) of the Department's regulations.

March 14, 2003.
Barbara E. Tillman,
Acting Deputy Assistant Secretary for Import Administration, Group III.

[FR Doc. 03-6934 Filed 3-21-03; 8:45 am]

BILLING CODE 3510-DS-S